DEPARTMENT OF AGRICULTURE

Food Safety and Inspection Service

[Docket No. FSIS-2013-0018]

Codex Alimentarius Commission: Meeting of the Codex Alimentarius Commission

AGENCY: Office of the Under Secretary for Food Safety, USDA.

ACTION: Notice of public meeting and request for comments.

SUMMARY: The Office of the Under Secretary for Food Safety, U.S. Department of Agriculture (USDA) is sponsoring a public meeting on June 18, 2013. The objective of the public meeting is to provide information and receive public comments on agenda items and draft United States positions that will be discussed at the Thirty-Sixth Session of the Codex Alimentarius Commission (CAC), which will take place July 1-5, 2013 in Rome, Italy. The Under Secretary for Food Safety recognizes the importance of providing interested parties the opportunity to obtain background information on the session and to address items on the agenda.

DATES: The public meeting is scheduled for Tuesday, June 18, 2013 from 1:00-4:00 p.m.

ADDRESSES: The public meeting will be held at The Jamie L. Whitten Building, United States Department of Agriculture (USDA), 1400 Independence Avenue SW., Room 107-A, Washington, DC 20250. Documents related to the 36th Session of the CAC will be accessible via the World Wide Web at the following address: http://www.codexalimentarius.org/meetings-reports/en/.

The U.S. Delegate to the 36th Session of the CAC invites U.S. interested parties to submit their comments electronically to the following email address: Barbara.McNiff@fsis.usda.gov.

Call in Number: If you wish to participate in the public meeting for the 36th Session of the CAC, by conference call, Please use the call in number and participant code listed below:

Call in Number: 1-888-858-2144.

Participant Code: 6208658.

For Further Information About the 36th Session of the CAC Contact: Barbara McNiff, U.S. Codex Office, 1400 Independence Avenue SW., Room 4861, South Building, Washington, DC 20250, Tel: (202) 690-4719 Fax: (202) 720-3157, Email: Barbara.Mcniff@fsis.usda.gov.

For Further Information About the Public Meeting Contact: Jasmine Curtis, U.S. Codex Office, 1400 Independence Avenue SW., Room 4865, South Building, Washington, DC 20250, Tel: (202) 690-1124 Fax: (202) 720-3157, Email: Jasmine.Curtis@fsis.usda.gov.

SUPPLEMENTARY INFORMATION:

Background

Codex was established in 1963 by two United Nations organizations, the Food and Agriculture Organization (FAO) and the World Health Organization (WHO). Through adoption of food standards, codes of practice, and other guidelines developed by its committees, and by promoting adoption and implementation by governments, Codex seeks to protect the health of consumers and ensure that fair practices are used in the food trade.

Issues To Be Discussed at the Public Meeting

The following items on the Agenda for the 36th Session of the CAC will be discussed during the public meeting:

• Report by the Chairperson on the 68th Session of the Executive Committee

• Reports of FAO/WHO Regional Coordinating Committees and Appointment of Regional Coordinators

• Proposed amendments to the Procedural Manual/Comments on Proposed Amendments to the Procedural Manual

• Draft Standards and Related Texts at Step 8 of the Procedure (including those submitted at Step 5 with a recommendation to omit Steps 6 and 7 and at Step 5 of the Accelerated Procedure) and Comments on Draft Standards and Related Texts submitted to the Commission for adoption

• Proposed Draft Standards and Related Texts at Step 5 and Comments on Draft Standards and Related Texts at Step 5

• Revocation of Existing Codex Standards and Related Texts

• Amendments to the Codex Standards and Related Texts

• Proposals for the Elaboration of New Standards and Related Texts and for the Discontinuation of Work

• Matters referred to the Commission by Codex Committees and Task Forces

• Strategic Planning of the Codex Alimentarius Commission

(a) General Implementation Status

(b) Draft Codex Strategic Plan 2014-2019

• Financial and Budgetary Matters

• Matters arising from FAO and WHO

(a) FAO/WHO Project and Trust Fund for Enhanced Participation in Codex

(b) Other Matters arising from FAO and WHO

• Relations between the Codex Alimentarius Commission and other International Organizations

• Election of Chairperson and Vice Chairperson and Appointment of the Coordinators

• Designation of Countries responsible for Appointing the Chairpersons of Codex Committees and Task Forces and Schedule of Sessions 2014-2015

• Other Business

Each issue listed will be fully described in documents distributed, or to be distributed, by the Secretariat prior to the Meeting. Members of the public may access or request copies of these documents (see ADDRESSES).

Public Meeting

At the June 18, 2013, public meeting, draft U.S. positions on the agenda items will be discussed, and attendees will have the opportunity to pose questions and offer comments. Written comments may be offered at the meeting or sent to the U.S. Delegate for the 36th Session of CAC see ADDRESSES). Written comments should state that they relate to activities of the 36th session of the CAC.

Additional Public Notification

FSIS will announce this notice online through the FSIS Web page located at http://www.fsis.usda.gov/regulations_&_policies/Federal_Register_Notices/index.asp.

FSIS will also make copies of this Federal Register publication available through the FSIS Constituent Update, which is used to provide information regarding FSIS policies, procedures, regulations, Federal Register notices, FSIS public meetings, and other types of information that could affect or would be of interest to constituents and stakeholders. The Update is communicated via Listserv, a free electronic mail subscription service for industry, trade groups, consumer interest groups, health professionals, and other individuals who have asked to be included. The Update is also available on the FSIS Web page. In addition, FSIS offers an electronic mail subscription service which provides automatic and customized access to selected food safety news and information. This service is available at http://www.fsis.usda.gov/News_&_Events/Email_Subscription/. Options range from recalls to export information to regulations, directives, and notices. Customers can add or delete subscriptions themselves, and have the option to password protect their accounts.

USDA Nondiscrimination Statement

The U.S. Department of Agriculture (USDA) prohibits discrimination in all its programs and activities on the basis of race, color, national origin, gender, religion, age, disability, political beliefs, sexual orientation, and marital or family status. (Not all prohibited bases apply to all programs).

Persons with disabilities who require alternative means for communication of program information (Braille, large print, audiotape, etc.) should contact USDA's Target Center at (202) 720-2600 (voice and TTY).

To file a written complaint of discrimination, write USDA Office of the Assistant Secretary for Civil Rights, 1400 Independence Avenue SW., Washington, DC 20250-9410 or call (202) 720-5964 (voice and TTY). USDA is an equal opportunity provider and employer.

Done at Washington, DC, on April 18, 2013.
Mary Frances Lowe,
U.S. Manager for Codex Alimentarius.

[FR Doc. 2013-09510 Filed 4-22-13; 8:45 am]

BILLING CODE 3410-DM-P